DEPARTMENT OF AGRICULTURE

Natural Resources Conservation Service

Forest Service

Notice of Meetings

AGENCY: Natural Resources Conservation Service (NRCS) and Forest Service.

ACTION: Notice of meeting.

SUMMARY: Maintaining Agriculture and Forestry in Rapidly Growing Areas Listening Forums hosted by members of the USDA Policy Advisory Committee on Farmland Protection. The USDA Policy Advisory Committee on Farm and Forest Lands Protection is holding listening forums this summer to solicit policy feedback and anecdotal information on what works and what does not work from a community 's perspective in working with Federal tools designed to maintain land as farmland and forest land. The input received from these forums will be synthesized into a report that USDA will issue on this subject later this year.

Specifically, the forums will ask for public comment on the following questions:

1. What are the economic, environmental, and social benefits of farms and forested lands for communities, especially those in rapidly growing regions?

2. What are the challenges that communities and individuals face in trying to maintain farms and forested lands, especially in rapidly growing areas?

3. What sorts of opportunities exist to capitalize on market opportunities (e.g. direct marketing and agri-tourism) to encourage maintenance of farmland and forestland?

4. What role could the Federal Government play to better support farmers and forest operators in taking advantage of these opportunities?

DATES: The first two forums were held July 13, 2000, in Sycamore, Illinois and July 21, 2000 in Davis, California. The third forum will be July 31, 2000, in Seattle, Washington at Yale Street Landing, 1001 Fairview Avenue North, from 9 a.m. to 12 p.m. The fourth forum will be August 7, 2000, at the Crown Plaza Atlanta Airport Hotel, 1325 Virginia Avenue, Atlanta, Georgia form 9 a.m. to 12 p.m. The last forum will be held in Morristown, New Jersey, on August 9, 2000, from 9 a.m. to 12 p.m. It will be held at 53 East Hanover Avenue, at the Frelinghuysen Arboretum Auditorium. Three informational gathering sessions are being considered.

SUPPLEMENTARY INFORMATION: Notice of these forums is given under the Federal Advisory Committee Act, 5 U.S.C. App. 2. Additional information about the USDA Policy Advisory Committee, including any revised agendas for future forums that may appear after this Federal Register Notice is published, may be found on the World Wide Web at http://www.usda.gov.

Draft Agenda for the Forums

A. Opening remarks.

B. Panel presentations.

C. Public participation: oral statements, questions and answer period.

D. Closing remarks.

Procedural

The forums are open to the general public. Members of the general public will have an opportunity to present their ideas and opinions during each forum. Persons wishing to make oral statements should pre-register by contacting Ms. Mary Lou Flores at (202) 720-4525. Those who wish to submit written statements can do so by submitting 25 copies of their statements two days prior to the forum. Please send them to Ms. Stacie Kornegay, Natural Resources Conservation Service, P.O. Box 2890, Washington, D.C. 20013, Room 6013-S. The written form of the oral statements must not exceed five pages in 12-point pitch. At each forum, reasonable provisions will be made for oral presentations of no more than 3 minutes each in duration.

FOR FURTHER INFORMATION CONTACT: Requests for special accommodations because of disability, questions or comments should be directed to Rosann Durrah, Designated Federal Official, at (202) 720-4072; fax (202) 690-0639, email rosann.durrah@usda.gov.

Signed at Washington, D.C. on July 21, 2000.
Anne Keys,
Deputy Under Secretary, Natural Resources and Environment, USDA.

[FR Doc. 00-18948 Filed 7-26-00; 8:45 am]

BILLING CODE 3410-16-P